DEPARTMENT OF DEFENSE

Defense Acquisition Regulations System

[Docket DARS-2015-0059]

Submission for OMB Review; Comment Request

AGENCY: Defense Acquisition Regulations System, Department of Defense (DoD).

ACTION: Notice.

SUMMARY: The Defense Acquisition Regulations System has submitted to OMB for clearance, the following proposal for collection of information under the provisions of the Paperwork Reduction Act (44 U.S.C. chapter 35).

DATES: Consideration will be given to all comments received by May 9, 2016.

SUPPLEMENTARY INFORMATION: Title and OMB Number: Information Collection in Support of the Defense Federal Acquisition Regulation Supplement (DFARS) Part 242; Contract Administration and Audit Services, and related clauses in DFARS part 252; OMB Control Number 0704-0250.

Affected Public: Businesses or other for-profit, and not-for-profit institutions.

Type of Request: Extension.

Number of Respondents: 7,418.

Responses per Respondent: 12.8.

Annual Responses: 94,963.

Average Burden per Response: Approximately 2.02 hours.

Annual Burden Hours: 192,372.

Reporting Frequency: On occasion.

Needs and Uses: The Government requires this information in order to perform its contract administration functions. DoD uses the information as follows:

a. The information required by DFARS subpart 242.11 is used by contract administration offices to monitor contract progress, identify factors that may delay contract performance, and to ascertain potential contract delinquencies.

b. The information required by DFARS 252.242-7004 is used by contracting officers to determine if contractor material management and accounting systems conform to established DoD standards.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

Federal eRulemaking Portal: http://www.regulations.gov. Follow the instructions for submitting comments.

Instructions: All submissions received must include the agency name, docket number, and title for the Federal Register document. The general policy for comments and other public submissions from members of the public is to make these submissions available for public viewing on the internet at http://www.regulations.gov as they are received without change, including any personal identifiers or contact information provided. To confirm receipt of your comment(s), please check http://www.regulations.gov approximately two to three days after submission to verify posting (except allow 30 days for posting of comments submitted by mail).

DoD Clearance Officer: Mr. Frederick C. Licari.

Written requests for copies of the information collection proposal should be sent to Mr. Licari at: Publication Collections Program, WHS/ESD Information Management Division, 4800 Mark Center Drive, 2nd Floor, East Tower, Suite 02G09, Alexandria, VA 22350-3100.

Amy G. Williams,
Editor, Defense Acquisition Regulations System.

[FR Doc. 2016-07934 Filed 4-6-16; 8:45 am]

BILLING CODE 5001-06-P